ENVIRONMENTAL PROTECTION AGENCY

[EPA-HQ-OAR-2020-0015; FRL-11251-01-OMS]

Agency Information Collection Activities; Submission to the Office of Management and Budget for Review and Approval; Comment Request; NSPS for the Graphic Arts Industry (Renewal)

AGENCY: Environmental Protection Agency (EPA).

ACTION: Notice.

SUMMARY: The Environmental Protection Agency (EPA) has submitted an information collection request (ICR), NSPS for the Graphic Arts Industry (EPA ICR Number 0657.14, OMB Control Number 2060-0105) to the Office of Management and Budget (OMB) for review and approval in accordance with the Paperwork Reduction Act. This is a proposed extension of the ICR, which is currently approved through July 31, 2023. Public comments were previously requested via the Federal Register on July 22, 2022, during a 60-day comment period. This notice allows for an additional 30 days for public comments.

DATES: Comments may be submitted on or before August 31, 2023.

ADDRESSES: Submit your comments, referencing Docket ID Number EPA-HQ-OAR-2020-0015, to EPA online using www.regulations.gov (our preferred method), by email to docket@epa.gov, or by mail to: EPA Docket Center, Environmental Protection Agency, Mail Code 28221T, 1200 Pennsylvania Ave. NW, Washington, DC 20460. EPA's policy is that all comments received will be included in the public docket without change, including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under Review—Open for Public Comments” or by using the search function.

FOR FURTHER INFORMATION CONTACT: Muntasir Ali, Sector Policies and Program Division (D243-05), Office of Air Quality Planning and Standards, U.S. Environmental Protection Agency, Research Triangle Park, North Carolina 27711; telephone number: (919) 541-0833; email address: ali.muntasir@epa.gov.

SUPPLEMENTARY INFORMATION: This is a proposed extension of the ICR, which is currently approved through July 31, 2023. An agency may not conduct or sponsor, and a person is not required to respond to, a collection of information unless it displays a currently valid OMB control number.

Public comments were previously requested via the Federal Register on July 22, 2022, during a 60-day comment period (87 FR 43843). This notice allows for an additional 30 days for public comments. Supporting documents, which explain in detail the information that the EPA will be collecting, are available in the public docket for this ICR. The docket can be viewed online at www.regulations.gov, or in person at the EPA Docket Center, WJC West, Room 3334, 1301 Constitution Ave. NW, Washington, DC. The telephone number for the Docket Center is 202-566-1744. For additional information about EPA's public docket, visit http://www.epa.gov/dockets.

Abstract: The New Source Performance Standards (NSPS) for the Graphic Arts Industry (40 CFR part 60, subpart QQ) were proposed on October 28, 1980; promulgated on November 8, 1982; and most recently amended on April 9, 2004. These regulations apply to each publication rotogravure printing press (not including proof presses) commencing either construction, or modification, or reconstruction after the date of proposal. New facilities include those that commenced either construction, or modification, or reconstruction after the date of proposal. This information is being collected to assure compliance with 40 CFR part 60, subpart QQ.

Form numbers: None.

Respondents/affected entities: Owners or operators of graphic arts facilities.

Respondent's obligation to respond: Mandatory (40 CFR part 60, subpart QQ).

Estimated number of respondents: 6 (total).

Frequency of response: Initially, occasionally, and semiannually.

Total estimated burden: 470 hours (per year). Burden is defined at 5 CFR 1320.3(b).

Total estimated cost: $56,200 (per year), which includes $0 in annualized capital/startup and/or operation & maintenance costs.

Changes in the estimates: There is a decrease of 1,590 hours in the total estimated respondent burden compared with the ICR currently approved by OMB. This decrease in burden is an adjustment based on a review of sources listed on the Enforcement Compliance History Online (ECHO) database and consultations with industry indicating that the estimated number of sources in this renewal should be lowered. The ECHO sources listed included 6 active respondents subject to subpart QQ. Additionally, consultations with Gravure Association of Americas identified two companies with operations using the publication rotogravure printing process, both of which owned facilities included in the ECHO list. Based on consultations, EPA's ECHO database, and comparisons with previous ICRs, the industry is currently declining. As a result, it is assumed no new respondents will be added over the next three years. Labor costs have also been adjusted to correct an error in the previous ICR's calculations resulting from managerial and technical labor rates being transposed and applied incorrectly to each other's labor hours.

Courtney Kerwin,
Director, Regulatory Support Division.

[FR Doc. 2023-16214 Filed 7-31-23; 8:45 am]

BILLING CODE 6560-50-P